DEPARTMENT OF AGRICULTURE

Forest Service

Northern New Mexico Resource Advisory Committee Meeting

AGENCY: Forest Service, USDA.

ACTION: Notice of meeting.

SUMMARY: The Northern New Mexico Resource Advisory Committee (NNMRAC) will meet in Albuquerque, New Mexico. The committee is meeting as authorized under the Secure Rural Schools and Community Self-Determination Act of 2000 (Pub. L. 110-343) and in compliance with the Federal Advisory Committee Act (5 U.S.C. Appendix 2 §§ 1-15, October 6, 1972, as amended 1976, 1980 and 1982). The purpose of the meeting is to elect a chairperson, review meeting process, review NNMRAC guidelines, proposal presentations by proponents (5 minutes), questions from committee members to proponents (3 minutes), review and ranking of project proposals by Category Groups, recommendation for funding of projects to Designated Federal Official, request for budget for administration of NNMRAC, provide for public comment.

DATES: The meeting will be held on January 13, 2011 beginning at 10 a.m. and ending at 5 p.m. and on January 14, 2011 beginning at 8 a.m. and ending at 5 p.m.

ADDRESSES: The meeting will be held at the Albuquerque District Office of the Bureau of Land Management at 435 Montano Road NE. in the conference room. Written comments should be sent to Ignacio Peralta, Carson National Forest, 208 Cruz Alta Road, Taos, NM 87571. Comments may also be sent via e-mail to iperalta@fs.fed.us or via facsimile to 575-758-6213.

All comments, including names and addresses when provided, are placed in the record and are available for public inspection and copying. The public may inspect comments received at Carson National Forest, 208 Cruz Alta Road Taos, NM. Visitors are encouraged to call ahead to 575-758-6344 to facilitate entry into the building.

FOR FURTHER INFORMATION CONTACT: RAC Coordinator USDA, Carson National Forest: Ignacio Peralta, 575-758-6344, 208 Cruz Alta Rd., Taos, NM 87571. E-mail: iperalta@fs.fed.us.

RAC Coordinator, USDA, Santa Fe National Forest: Ruben Montes, 505-438-5356, 11 Forest Lane, Santa Fe, NM 87508. E-mail: rmontes@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Election of NNMRAC Chairperson. (2) Review meeting process. (3) Review NNMRAC guidelines. (4) Proposal presentations by proponents, 5 minutes. (5) Questions from NNMRAC members to proponents, 3 minutes. (6) Review and ranking of project proposals by Category Groups. (7) Recommendation for funding of project to Designated Federal Official. (8) Request for budget for administration of NNMRAC. (9) Public comment.

Persons who wish to bring related matters to the attention of the Committee may file written statements with the Committee staff before or after the meeting.

Dated: December 16, 2010.
Kendall Clark,
Forest Supervisor, Carson National Forest.

[FR Doc. 2010-32353 Filed 12-22-10; 8:45 am]

BILLING CODE 3410-11-P